DEPARTMENT OF ENERGY

Federal Energy Regulatory Commission

[Project No. 6959-004]

Pan Pacific Hydro, Inc.; Notice of Proposed Termination of Exemption by Implied Surrender and Soliciting Comments, Motions To Intervene, and Protests

Take notice that the following hydroelectric proceeding has been initiated by the Commission and is available for public inspection:

a. Type of Proceeding: Proposed Termination of Exemption by Implied Surrender.

b. Project No: 6959-004.

c. Date Initiated: September 24, 2024.

d. Applicant: Pan Pacific Hydro, Inc.

e. Name of Projects: Weber Flat Hydroelectric Project.

f. Location: This project is located on the West Fork of Trinity Alps Creek near Weaverville, in Trinity County, California. The project does not occupy Federal lands.

g. Filed Pursuant to: 18 CFR 6.4.

h. Applicant Contact: Brian Ring, Pan Pacific Hydro, PO Box 12219, Zephyr Cove, NV, 89448, (775) 588-7300.

i. FERC Contact: Rebecca Martin, (202) 502-6012, Rebecca.martin@ferc.gov.

j. Resource Agency Comments: Federal, State, local and Tribal agencies are invited to file comments on the described proceeding. If an agency does not file comments within the time specified for filing comments, it will be presumed to have no comments.

k. Deadline for filing comments, motions to intervene, and protests: November 8, 2024.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. The first page of any filing should include the docket number P-6959-004. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

l. Description of Project Facilities: The project works include a 5-foot-high, concrete diversion structure; a 1,900-foot-long, 24-inch diameter above-ground penstock connected to a 1,000 foot, 18-inch-diameter buried penstock; a powerhouse containing one generating units with a total installed capacity of 750 kilowatts, and appurtenant facilities. The project has historically operated as run-of-river but has not operated since 2008 when it lost its power purchase agreement.

m. Description of Proceeding: The licensee has not complied with Standard Article 16 of the license which was issued on May 12, 1983 (23 FERC 62,205). Article 16 states that if the licensee abandons or discontinues good faith operation of the project or refuses or neglects to comply with the terms of the license and the lawful orders of the Commission, the Commission will deem it to be the intent of the licensee to surrender the license.

Commission staff issued a letter, on September 26, 2019, requesting a plan and schedule to resume project operation or surrender of the license. On February 26, 2019, we granted an extension of time until August 2, 2019. On October 15, 2020, a second extension of time was requested, which was granted on October 20, 2020, and the filing date was extended to July 15, 2021. On March 15, 2023, Commission staff issued another letter requesting a plan and schedule to restore the project to operation or an application to surrender the exemption by April 14, 2023. On April 13, 2023, an additional extension of time was requested to allow for sale of the project. Commission staff issued the extension of time on May 4, 2023, granting until August 2, 2023, to a transfer agreement. To date, no additional filings have been made. On August 13, 2024, Commission staff issued a letter notifying the exemptee that it would be initiating implied surrender proceedings.

n. Location of the license for the project may be viewed on the Commission's website at http://www.ferc.gov using the “eLibrary” link. Enter the docket number (P-6959) excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659.

o. Individuals desiring to be included on the Commission's mailing list should so indicate by writing to the Secretary of the Commission.

p. Comments, Protests, or Motions To Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

q. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

r. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: September 24, 2024.
Debbie-Anne A. Reese,
Acting Secretary.

[FR Doc. 2024-22427 Filed 9-30-24; 8:45 am]

BILLING CODE 6717-01-P